NUCLEAR REGULATORY COMMISSION

10 CFR Chapter I

[NRC-2015-0071]

Unified Agenda of Federal Regulatory and Deregulatory Actions

AGENCY: Nuclear Regulatory Commission.

ACTION: Semiannual regulatory agenda.

SUMMARY: The U.S. Nuclear Regulatory Commission (NRC) is publishing its semiannual regulatory agenda (the Agenda) in accordance with Public Law 96-354, “The Regulatory Flexibility Act,” and Executive Order 12866, “Regulatory Planning and Review.” The Agenda is a compilation of all rulemaking activities on which the NRC has recently completed action or has proposed or is considering action. The NRC has completed 8 rulemaking activities since publication of its last Agenda on December 22, 2014 (79 FR 76855). This issuance of the NRC's Agenda contains 35 active and 23 long-term rulemaking activities: 2 are Economically Significant; 10 represent Other Significant agency priorities; 53 are Substantive, Nonsignificant rulemaking activities; and 1 is an Administrative rulemaking activity. In addition, 3 rulemaking activities impact small entities. The NRC is requesting comment on its rulemaking activities as identified in this Agenda.

DATES: Submit comments on rulemaking activities as identified in this Agenda by July 20, 2015.

ADDRESSES: Submit comments on any rulemaking activity in the Agenda by the date and methods specified in any Federal Register notice on the rulemaking activity. Comments received on rulemaking activities for which the comment period has closed will be considered if it is practical to do so, but assurance of consideration cannot be given except as to comments received on or before the closure dates specified in the Federal Register notice. You may submit comments on this Agenda through the Federal Rulemaking Web site by going to http://www.regulations.gov and searching for Docket ID NRC-2015-0071. Address questions about NRC dockets to Carol Gallagher; telephone: 301-415-3463; email: Carol.Gallagher@nrc.gov. For technical questions on any rulemaking activity listed in the Agenda, contact the individual listed under the heading “Agency Contact” for that rulemaking activity.

For additional direction on obtaining information and submitting comments, see “Obtaining Information and Submitting Comments” in the SUPPLEMENTARY INFORMATION section of this document.

FOR FURTHER INFORMATION CONTACT: Cindy Bladey, Office of Administration, U.S. Nuclear Regulatory Commission, Washington, DC 20555-0001, telephone: 301-415-3280; email: Cindy.Bladey@nrc.gov. Persons outside the Washington, DC, metropolitan area may call, toll-free: 1-800-368-5642. For further information on the substantive content of any rulemaking activity listed in the Agenda, contact the individual listed under the heading “Agency Contact” for that rulemaking activity.

SUPPLEMENTARY INFORMATION:

Obtaining Information and Submitting Comments

A. Obtaining Information

Please refer to Docket ID NRC-2015-0071 when contacting the NRC about the availability of information for this document. You may obtain publically-available information related to this document by any of the following methods:

• Reginfo.gov:

○ For completed rulemaking activities, go to http://www.reginfo.gov/public/do/eAgendaHistory?showStage=completed and select Nuclear Regulatory Commission from drop down menu.

○ For active rulemaking activities, go to http://www.reginfo.gov/public/do/eAgendaMain and select Nuclear Regulatory Commission from drop down menu.

○ For long-term rulemaking activities go to http://www.reginfo.gov/public/do/eAgendaHistory?operation=OPERATION_GET_PUBLICATION&showStage=longterm&currentPubId=201410 and select Nuclear Regulatory Commission from drop down menu.

• Federal Rulemaking Web site: Go to http://www.regulations.gov and search for Docket ID NRC-2015-0071.

• NRC's Public Web site: Go to http://www.nrc.gov/reading-rm/doc-collections/rulemaking-ruleforum/unified-agenda.html and select spring 2015.

• NRC's Public Document Room: You may examine and purchase copies of public documents at the NRC's PDR, Room O1-F21, One White Flint North, 11555 Rockville Pike, Rockville, Maryland 20852.

B. Submitting Comments

Please include Docket ID NRC-2015-0071 in your comment submission. The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

Introduction

The Agenda is a compilation of all rulemaking activities on which an agency has recently completed action or has proposed or is considering action. The Agenda reports rulemaking activities in three major categories: Completed, active, and long-term. Completed rulemaking activities are those that were completed since publication of an agency's last Agenda; active rulemaking activities are those that an agency currently plans to have an Advance Notice of Proposed Rulemaking, a Proposed Rule, or a Final Rule issued within the next 12 months; and long-term rulemaking activities are rulemaking activities under development but for which an agency does not expect to have a regulatory action within the 12 months after publication of the current edition of the Agenda.

A “Regulation Identifier Number” or RIN is given to each rulemaking activity that the NRC has published or plans on publishing a Federal Register notice and the Office of Management and Budget uses this number to track all relevant documents throughout the entire “lifecycle” of a particular rulemaking activity. The NRC reports all rulemaking activities in the Agenda that have been assigned a RIN and meets the definition for a completed, an active, or a long-term rulemaking activity.

The information contained in this Agenda is updated to reflect any action that has occurred on rulemaking activities since publication of the last NRC Agenda on December 22, 2014 (79 FR 76855). Specifically, the information in this Agenda has been updated through March 23, 2015.

The date for the next scheduled action under the heading “Timetable” is the date the next regulatory action for the rulemaking activity is scheduled to be published in the Federal Register. The date is considered tentative and is not binding on the Commission or its staff. The Agenda is intended to provide the public early notice and opportunity to participate in the NRC rulemaking process. However, the NRC may consider or act on any rulemaking activity even though it is not included in the Agenda.

Common Prioritization of Rulemaking

A key part of the NRC's regulatory program is an annual review of all ongoing and potential rulemaking activities. In conjunction with its budget and long-term planning process, the NRC compiles a Common Prioritization of Rulemaking (CPR) listing to develop program budget estimates and to determine the relative priority of NRC rulemaking activities. The CPR process considers four factors and assigns a score to each factor. Factor A includes activities that support the NRC's Strategic Plan goals of ensuring the safe and secure use of radioactive materials. Factor B includes activities that support the Strategic Plan cross-cutting strategies of Regulatory Effectiveness and Openness. Specifically, this factor considers whether the rulemaking activity enhances regulatory effectiveness and/or openness in the way that the NRC conducts regulatory activities. Factor C is a governmental factor representing interest to the NRC, Congress, or other governmental bodies. Factor D is an external factor representing interest to members of the public, non-governmental organizations, the nuclear industry, vendors, and suppliers. The overall priority is determined by adding the factor scores together for each rulemaking activity.

Section 610 Periodic Reviews Under the Regulatory Flexibility Act

Section 610 of the Regulatory Flexibility Act (RFA) requires agencies to conduct a review within 10 years of promulgation of those regulations that have or will have a significant economic impact on a substantial number of small entities. The NRC undertakes these reviews to decide whether the rules should be unchanged, amended, or withdrawn. At this time, the NRC does not have any rules that have a significant economic impact on a substantial number of small entities; therefore, the NRC has not included any RFA Section 610 periodic reviews in this edition of the Agenda. A complete listing of NRC regulations that impact small entities and related Small Entity Compliance Guides will be available from the NRC's Web site at http://www.nrc.gov/about-nrc/regulatory/rulemaking/flexibility-act/small-ntities.html.

Public Comments Received on NRC Unified Agendas

The NRC recently requested public comment on its rulemaking activities as identified in its Agenda and has received comments from the Nuclear Energy Institute (NEI). The NEI commented on the detail provided in the abstract for each rulemaking activity. Specifically, NEI suggested that the NRC: (1) Communicate the rational for determining what rulemaking activities are reported in the Agenda; (2) provide clear and complete target dates for completing a rulemaking activity; (3) provide a status for rulemaking activities that have become dormant; (4) remove rulemaking activities that are no longer being pursued; and (5) include the category of NRC licensee impacted by a particular rulemaking activity.

In addition, NEI commented on the process the NRC uses to prioritize its rulemaking activities. The NEI suggested that the NRC: (1) Use a risk-informed prioritization methodology; (2) consider eliminating CPR Factor B from its methodology; (3) report the scores from its prioritization process in the Agenda for each rulemaking activity; (4) revise its methodology to incorporate review criteria that enables greater discrimination among rulemaking activities; and (5) include cumulative impact in rulemaking plans for Commission approval and in NRC's prioritization methodology.

The NRC actively seeks to improve its rulemaking process and reporting, and is currently engaged in a process improvement initiative that would implement most of NEI's suggestions related to rulemaking reporting. Each year the NRC reviews its methodology for prioritizing rulemaking activities to determine if changes are necessary. The methodology was recently updated to reflect the NRC's Fiscal Year 2014—2018 Strategic Plan (79 FR 55833; September 17, 2014); the NRC will consider NEI's suggestions upon its next review of the prioritization methodology.

Dated at Rockville, Maryland, this 23rd day of March 2015.
For the Nuclear Regulatory Commission.
Cindy Bladey,
Chief, Rules, Announcements, and Directives Branch, Division of Administrative Services, Office of Administration.

Nuclear Regulatory Commission—Proposed Rule Stage
Sequence No. | Title | Regulation Identifier No.
389 | Variable Annual Fee Structure for Small Modular Power Reactors [NRC-2008-0664] | 3150-AI54

Nuclear Regulatory Commission—Final Rule Stage
Sequence No. | Title | Regulation Identifier No.
390 | Revision of Fee Schedules: Fee Recovery for FY 2015 [NRC-2014-0200] | 3150-AJ44

Nuclear Regulatory Commission—Long-Term Actions
Sequence No. | Title | Regulation Identifier No.
391 | Controlling the Disposition of Solid Materials [NRC-1999-0002] | 3150-AH18

NUCLEAR REGULATORY COMMISSION (NRC)

Proposed Rule Stage

389. Variable Annual Fee Structure for Small Modular Power Reactors [NRC-2008-0664]

Legal Authority: 42 U.S.C. 2201; 42 U.S.C. 5841

Abstract: The advanced notice of proposed rulemaking (ANPRM) was published in the Federal Register on March 25, 2009 (74 FR 12735), seeking comments from the public on a possible variable fee structure for part 171 annual fees for power reactors based on licensed power limits. The comment period ended on June 8, 2009, and the NRC received 16 public comments. The Commission approved the staff's recommendation to establish an NRC workgroup to analyze suggested methodologies for a variable annual fee structure for power reactors in SECY-09-0137 dated October 13, 2009. On February 7, 2011, the Office of the Chief Financial Officer (OCFO) sent a memorandum to the Commission (ADAMS Accession No. ML110380251) responding to SECY-09-0137.

Timetable:

Action | Date | FR Cite
ANPRM | 03/25/09 | 74 FR 12735
ANPRM Comment Period End | 06/08/09
NPRM | 10/00/15

Regulatory Flexibility Analysis Required: Yes.

Agency Contact: Arlette P. Howard, Nuclear Regulatory Commission, Office of the Chief Financial Officer, Washington, DC 20555-0001, Phone: 301 415-1481, Email: arlette.howard@nrc.gov.

RIN: 3150-AI54

NUCLEAR REGULATORY COMMISSION (NRC)

Final Rule Stage

390. Revision of Fee Schedules: Fee Recovery for FY 2015 [NRC-2014-0200]

Legal Authority: 42 U.S.C. 2201; 42 U.S.C. 5841

Abstract: This proposed rulemaking would amend the licensing, inspection, and annual fees that the Commission charges its applicants and licensees. These amendments would implement the Omnibus Budget Reconciliation Act of 1990 (OBRA-90) as amended, which requires that the NRC recover approximately 90 percent of its budget authority in Fiscal Year (FY) 2015, less the amounts appropriated from the Waste Incidental to Reprocessing, and generic homeland security activities.

Timetable:

Action | Date | FR Cite
NPRM | 03/23/15 | 80 FR 15476
NPRM Comment Period End | 04/22/15
Final Rule | 06/00/15

Regulatory Flexibility Analysis Required: Yes.

Agency Contact: Arlette P. Howard, Nuclear Regulatory Commission, Office of the Chief Financial Officer, Washington, DC 20555-0001, Phone: 301 415-1481, Email: arlette.howard@nrc.gov.

RIN: 3150-AJ44

NUCLEAR REGULATORY COMMISSION (NRC)

Long-Term Actions

391. Controlling the Disposition of Solid Materials [NRC-1999-0002]

Legal Authority: 42 U.S.C. 2201; 42 U.S.C. 5841

Abstract: The NRC staff provided a draft proposed rule package on Controlling the Disposition of Solid Materials to the Commission on March 31, 2005, which the Commission disapproved (ADAMS Accession Number: ML051520285). The rulemaking package included a summary of stakeholder comments (NUREG/CR-6682), Supplement 1 (ADAMS Accession Number: ML003754410). The Commission's decision was based on the fact that the Agency is currently faced with several high priority and complex tasks, that the current approach to review specific cases on an individual basis is fully protective of public health and safety, and that the immediate need for this rule has changed due to the shift in timing for reactor decommissioning. The Commission has deferred action on this rulemaking.

Timetable:

Action | Date | FR Cite
ANPRM | To Be Determined

Regulatory Flexibility Analysis Required: Yes.

Agency Contact: Solomon Sahle, Nuclear Regulatory Commission, Office of Nuclear Material Safety and Safeguards, Washington, DC 20555-0001, Phone: 301 415-3781, Email: solomon.sahle@nrc.gov.

RIN: 3150-AH18

[FR Doc. 2015-14377 Filed 6-17-15; 8:45 am]

BILLING CODE 7590-01-P